DEPARTMENT OF ENERGY

Federal Energy Regulatory Commission

Combined Notice of Filings #1

Take notice that the Commission received the following electric rate filings:

Docket Numbers: ER11-2201-004.

Applicants: Evergreen Wind Power III, LLC.

Description: Compliance Market-Based Rate Tariff Filing to be effective 4/4/2011.

Filed Date: 5/30/12.

Accession Number: 20120530-5052.

Comments Due: 5 p.m. ET 6/20/12.

Docket Numbers: ER12-1177-001.

Applicants: PJM Interconnection, L.L.C.

Description: Compliance filing per Order dated 4/30/2012 in ER12-1177 to be effective 5/1/2012.

Filed Date: 5/30/12.

Accession Number: 20120530-5128.

Comments Due: 5 p.m. ET 6/20/12.

Docket Numbers: ER12-1178-001.

Applicants: PJM Interconnection, L.L.C.

Description: Compliance filing per Order dated 4/30/2012 in ER12-1178 to be effective 5/1/2012.

Filed Date: 5/30/12.

Accession Number: 20120530-5173.

Comments Due: 5 p.m. ET 6/20/12.

Docket Numbers: ER12-1185-001.

Applicants: Midwest Independent Transmission System Operator, Inc.

Description: 05-30-12 Demand Curves Compliance to be effective 5/1/2012.

Filed Date: 5/30/12.

Accession Number: 20120530-5107.

Comments Due: 5 p.m. ET 6/20/12.

Docket Numbers: ER12-1862-000.

Applicants: Pacific Gas and Electric Company.

Description: Amendment to Gates Solar Station LGIA WDT SA No. 87 to be effective 5/31/2012.

Filed Date: 5/30/12.

Accession Number: 20120530-5001.

Comments Due: 5 p.m. ET 6/20/12.

Docket Numbers: ER12-1863-000.

Applicants: PJM Interconnection, L.L.C.

Description: Queue Position X2-011 ? Original Service Agreement No. 3322 to be effective 5/1/2012.

Filed Date: 5/30/12.

Accession Number: 20120530-5046.

Comments Due: 5 p.m. ET 6/20/12.

Docket Numbers: ER12-1864-000.

Applicants: Deseret Generation & Transmission Co-operative, Inc.

Description: 2012 RIA Annual Update to be effective 1/1/2012.

Filed Date: 5/30/12.

Accession Number: 20120530-5067.

Comments Due: 5 p.m. ET 6/20/12.

Docket Numbers: ER12-1865-000.

Applicants: Alta Wind VI, LLC.

Description: Notice of Succession and Updated MBR Tariff of Mustang Hills, LLC to be effective 4/30/2012.

Filed Date: 5/30/12.

Accession Number: 20120530-5078.

Comments Due: 5 p.m. ET 6/20/12.

Docket Numbers: ER12-1866-000.

Applicants: PacifiCorp.

Description: PAC Energy NITSA Rev 16 to be effective 5/1/2012.

Filed Date: 5/30/12.

Accession Number: 20120530-5114.

Comments Due: 5 p.m. ET 6/20/12.

Docket Numbers: ER12-1867-000.

Applicants: Tampa Electric Company.

Description: Section 205 Transmission Depreciation Accrual Rates Filing to be effective 1/1/2012.

Filed Date: 5/30/12.

Accession Number: 20120530-5126.

Comments Due: 5 p.m. ET 6/20/12.

Docket Numbers: ER12-1868-000.

Applicants: New York Independent System Operator, Inc.

Description: NYISO Compliance Filing—Non-Historic Fixed Price TCCs to be effective 12/31/9998.

Filed Date: 5/30/12.

Accession Number: 20120530-5142.

Comments Due: 5 p.m. ET 6/20/12.

Docket Numbers: ER12-1869-000.

Applicants: New York Independent System Operator, Inc., Niagara Mohawk Power Corporation.

Description: LGIA among NYISO, NiMo, NYSEG and Nine Mile Point-SA#1757 to be effective 5/14/2012.

Filed Date: 5/30/12.

Accession Number: 20120530-5199.

Comments Due: 5 p.m. ET 6/20/12.

Docket Numbers: ER12-1870-000.

Applicants: Public Service Company of New Mexico.

Description: 2nd Revised PNM/HLM TSA to be effective 3/1/2012.

Filed Date: 5/30/12.

Accession Number: 20120530-5201.

Comments Due: 5 p.m. ET 6/20/12.

Docket Numbers: ER12-1871-000.

Applicants: Pacific Gas and Electric Company.

Description: E&P Agreement for Potrero Hills Energy Producers to be effective 6/1/2012.

Filed Date: 5/31/12.

Accession Number: 20120531-5004.

Comments Due: 5 p.m. ET 6/21/12.

Docket Numbers: ER12-1872-000.

Applicants: San Diego Gas & Electric Company.

Description: Request of San Diego Gas & Electric Company for One-Time Waiver of Section 40.8.1.12.1.

Filed Date: 5/30/12.

Accession Number: 20120530-5230.

Comments Due: 5 p.m. ET 6/20/12.

Take notice that the Commission received the following public utility holding company filings:

Docket Numbers: PH12-13-000.

Applicants: Alaska Power & Telephone Company.

Description: Waiver Notification pursuant to 18 CFR Section 366.4(c)(1) of Alaska Power & Telephone Company.

Filed Date: 5/30/12.

Accession Number: 20120530-5134.

Comments Due: 5 p.m. ET 6/20/12.

Take notice that the Commission received the following electric reliability filings:

Docket Numbers: RR12-11-000.

Applicants: North American Electric Reliability Corporation.

Description: North American Electric Reliability Corporation's Report of Budgeted to Actual Costs for 2011 for NERC and the Regional Entities.

Filed Date: 5/30/12.

Accession Number: 20120530-5251.

Comments Due: 5 p.m. ET 6/20/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 31, 2012.
Nathaniel J. Davis, Sr.,
Deputy Secretary.

[FR Doc. 2012-14023 Filed 6-8-12; 8:45 am]

BILLING CODE 6717-01-P